DEPARTMENT OF JUSTICE

Antitrust Division

Notice Pursuant to the National Cooperative Research and Production Act of 1993—IMS Global Learning Consortium, Inc.

Notice is hereby given that, on September 16, 2020, pursuant to Section 6(a) of the National Cooperative Research and Production Act of 1993, 15 U.S.C. 4301 et seq. (“the Act”), IMS Global Learning Consortium, Inc. (“IMS Global”) has filed written notifications simultaneously with the Attorney General and the Federal Trade Commission disclosing changes in its membership. The notifications were filed for the purpose of extending the Act's provisions limiting the recovery of antitrust plaintiffs to actual damages under specified circumstances. Specifically, edX, Cambridge, MA; Follett Corporation, Westchester, IL; Gainesville City Schools, Gainesville, GA; Greenville County Schools, Greenville, SC; New Mexico Public Department of Education, Ruidoso, NM; Northwest Tri-County IU5, Edinboro, PA; and PSI Services, Glendale, CA, have been added as parties to this venture.

Also, BPS Bildungsportal Sachsen GmbH, Chemnitz, GERMANY; Brigham Young University, Provo, UT; Genius Plaza, Miami, FL; Portfolium, Inc., San Diego, CA; Schoology, New York, NY; Colorado Technical University, Schaumburg, IL; and AccelerEd, Bethesda, MD, have withdrawn as parties to this venture.

In addition, Digitalme has changed its name to City & Guilds, Leeds, UNITED KINGDOM; and Advance Education, LLC to Cognia, Inc., Atlanta, GA.

No other changes have been made in either the membership or planned activity of the group research project. Membership in this group research project remains open, and IMS Global intends to file additional written notifications disclosing all changes in membership.

On April 7, 2000, IMS Global filed its original notification pursuant to Section 6(a) of the Act. The Department of Justice published a notice in the Federal Register pursuant to Section 6(b) of the Act on September 13, 2000 (65 FR 55283).

The last notification was filed with the Department on July 1, 2020. A notice was published in the Federal Register pursuant to Section 6(b) of the Act on July 16, 2020 (85 FR 43260).

Suzanne Morris,
Chief, Premerger and Division Statistics, Antitrust Division.

[FR Doc. 2020-22849 Filed 10-14-20; 8:45 am]

BILLING CODE P